DEPARTMENT OF HEALTH AND HUMAN SERVICES

Health Resources and Services Administration

Development of Application Guidance for Fiscal Year 2005 Funding Opportunities for New Access Points Under the Consolidated Health Center Program, CFDA Number 93.224

AGENCY: Health Resources and Services Administration, HHS.

ACTION: Solicitation of comments.

SUMMARY: In preparation for the development of Fiscal Year 2005 application guidance for New Access Point funding opportunities under the President's Initiative to Expand Health Centers, the Health Resources and Services Administration (HRSA) is offering public and private nonprofit entities, including tribal, faith-based and community-based organizations, an opportunity to comment on the current Program Information Notice (PIN) 2004-02 titled “Requirements of Fiscal Year 2004 Funding Opportunity for Health Center New Access Point Grant Applications”. PIN 2004-02 is available on HRSA's Bureau of Primary Health Care (BPHC) Web site at http://bphc.hrsa.gov/pinspals/pins.htm. This PIN details eligibility requirements, review criteria, and awarding factors for applicants seeking support for the operation of a new delivery site for the provision of comprehensive primary and preventive health care services.

HRSA believes that consultation with the community is an integral part of the application guidance development effort directed at creating new and expanded health center access points.

The Opportunity to Comment includes (1) identifying those areas in the guidance that need clarification and/or improvement, and (2) offering suggestions for achieving improvements. Comments will be reviewed, analyzed, and summarized for use in developing requirements for the fiscal year 2005 funding opportunity for health center new access point grant applications.

Background: The goal of the President's Initiative to Expand Health Centers, which began in fiscal year 2002, is to create health care access for 1,200 of the Nation's neediest communities through new and/or significantly expanded health center access points over five years. One way to achieve this goal is through the creation of new access points for the provision of comprehensive primary and preventive health care services in areas of high need that will improve the health status and decrease health disparities of the medically underserved populations to be served. These access points may be targeted toward an entire community or toward a specific population group in a community that has been identified as having unique and significant barriers to affordable and accessible health care services.

Authorizing Legislation: Section 330(e)(1)(A) of the Public Health Service Act, as amended, authorizes support for the operation of public and nonprofit health centers that provide health services to medically underserved populations.

DATES: Please send comments no later than COB March 29, 2004. The comments should be addressed to Dr. Sam Shekar, Associate Administrator for Primary Care, Health Resources and Services Administration, 4350 East-West Highway, Bethesda, Maryland 20814.

FOR FURTHER INFORMATION CONTACT: Ms. Tonya Bowers, Division of Health Center Development, Bureau of Primary Health Care. Ms. Bowers may be contacted by e-mail at tbowers@hrsa.gov or via telephone at area code 301-594-4110.

Dated: January 20, 2004.
Elizabeth M. Duke,
Administrator.

[FR Doc. 04-1734 Filed 1-27-04; 8:45 am]

BILLING CODE 4165-15-P